DEPARTMENT OF HOUSING AND URBAN DEVELOPMENT

[Docket No. FR-5159-N-01]

Notice of Funding Availability for the Public Housing Neighborhood Networks Program

AGENCY: Office of the Assistant Secretary for Public and Indian Housing, HUD.

ACTION: Notice of Funding Availability.

Overview Information

A. Federal Agency Name: Department of Housing and Urban Development, Office of Public and Indian Housing.

B. Funding Opportunity Title: Public Housing Neighborhood Networks program.

C. Announcement Type: Initial announcement.

D. Funding Opportunity Number: Federal Register number: FR-5159-N-01; OMB approval number: 2577-0229.

E. Catalog of Federal Domestic Assistance (CFDA) Number(s): 14.875.

F. Dates: The application deadline date is February 15, 2008.

G. Additional Overview Content Information

1. Purpose of Program. The purpose of the Public Housing Neighborhood Networks (NN) program is to provide grants to public housing authorities (PHAs) to: (a) Update and expand existing NN community technology centers; or (b) establish new NN centers. These centers offer comprehensive services designed to help public housing residents achieve long-term economic self-sufficiency. This program is authorized under § 9(d)(1)(E), § 9(e)(1)(K), § 9(h)(8), and § 24(d)(1)(G) of the United States Housing Act of 1937 (42 U.S.C. 1437g).

2. Funding Available. The Department plans to award approximately $10 million under the Public Housing NN program in Fiscal Year (FY) 2007.

3. Award Amounts. Awards will range from $150,000 to $600,000.

4. Eligible Applicants. Eligible applicants are PHAs only.

Tribes and tribally designated housing entities (TDHEs), nonprofit organizations, and resident associations are not eligible to apply for funding under the Public Housing Neighborhood Networks program.

5. Cost Sharing/Match Requirement. PHAs are required to match at least 25 percent of the requested grant amount.

6. Grant term. The grant term is 3 years from the execution date of the grant agreement.

Grant program | Total funding | Eligible applicants | Maximum grant amount
Neighborhood Networks | Approximately $10 million | PHAs—existing centers | $150,000 for PHAs with 1 to 780 units. $200,000 for PHAs with 781 to 2,500 units. $250,000 for PHAs with 2,501 to 7,300 units. $300,000 for PHAs with 7,301 units or more.
|  | PHAs—new centers | $300,000 for PHAs with 1 to 780 units. $400,000 for PHAs with 781 to 2,500 units. $500,000 for PHAs with 2,501 to 7,300 units. $600,000 for PHAs with 7,301 units or more.

FULL TEXT OF ANNOUNCEMENT

I. Funding Opportunity Description

A. Definition of Terms

1. Citywide Resident Organization consists of members of Resident Councils, Resident Management Corporations, and Resident Organizations who reside in public housing developments that are owned and operated by the same PHA within a city.

2. Contract Administrator is a grant administrator or financial management agent that oversees the implementation of the grant and/or the financial aspects of the grant. Contract administrators may be local housing agencies, community-based organizations such as community development corporations (CDCs), local faith-based institutions, nonprofit organizations, and state/regional associations and organizations. Troubled PHAs are not eligible to be contract administrators. Grant writers who assist applicants in the preparation of NN applications are also ineligible to be contract administrators. Please see the “Program Requirements” section III.C.2. of this NOFA for more information.

3. An existing computer center is: (1) A computer lab, or technology center owned and operated by a PHA that serves residents of public housing and has not received prior NN funding and, therefore, is not officially designated a HUD Public and Indian Housing (PIH) NN center; (2) a computer lab designated as a HUD PIH NN center, which seeks to expand its services; or (3) a computer lab that needs funding under this program to become fully operational and serve residents of public housing.

4. A new NN center is one that will be established (i.e., there is no infrastructure, space, or equipment currently in use for this purpose) with NN grant funds. NOTE: An applicant that has previously received NN funding may apply under the “New Computer Center” category only if it will develop a new center in a development that cannot be served by the applicant's existing NN center(s).

5. Intermediary Resident Organizations means jurisdiction-wide resident organizations, citywide resident organizations, statewide resident organizations, regional resident organizations, and national resident organizations.

6. Jurisdiction-Wide Resident Organization means an incorporated nonprofit organization or association that meets the following requirements: (a) Most of its activities are conducted within the jurisdiction of a single PHA; (b) There are no incorporated resident councils or resident management corporations within the jurisdiction of the single PHA; (c) It has experience in providing startup and capacity-building training to residents and resident organizations; and (d) Public housing residents representing unincorporated resident councils within the jurisdiction of the single PHA must comprise a majority of the board of directors.

7. National Resident Organization (NRO) is an incorporated nonprofit organization or association for public housing that meets each of the following requirements:

a. It is national (i.e., conducts activities or provides services in at least two HUD areas or two states);

b. It has the capacity to provide startup and capacity-building training to residents and resident organizations; and

c. Public housing residents representing different geographical locations in the country are members of the Board of Directors.

8. Past Performance is a threshold requirement. Using Rating Factor 1, HUD's field offices will evaluate applicants for past performance to determine whether an applicant has the capacity to manage the grant for which it is applying. Field offices will evaluate the past performance of contract administrators for applicants that are required to have one. See section III. C.2.c. for more information on contract administrators.

9. Person with disabilities means a person who:

a. Has a condition defined as a disability in section 223 of the Social Security Act;

b. Has a developmental disability as defined in section 102 of the Developmental Disabilities Assistance Bill of Rights Act; or

c. Is determined to have a physical, mental, or emotional impairment that:

(1) Is expected to be of long-continued and indefinite duration;

(2) Substantially impedes his or her ability to live independently; and

(3) Is of such a nature that such ability could be improved by more suitable housing conditions.

The term “person with disabilities” includes persons who have acquired immunodeficiency syndrome (HIV/AIDS) or any conditions arising from the etiologic agent for AIDS. No individual shall be considered a person with disabilities solely based on drug or alcohol dependence.

The definition provided above for persons with disabilities is the proper definition for determining program qualifications. However, the definition of a person with disabilities contained in section 504 of the Rehabilitation Act of 1973 and its implementing regulations must be used for purposes of providing reasonable accommodations and for program accessibility for persons with disabilities.

10. Project Coordinator is responsible for coordinating the grantee's approved activities to ensure that grant goals and objectives are met. A qualified Project Coordinator is someone with at least 2 years of experience running a community technology center and working on supportive services designed specifically for underserved populations. Please see Section V.A.1.a.(1)(a) of Rating Factor 1, “Staff Experience,” for more information. The Project Coordinator and grantee are both responsible for ensuring that all federal requirements are followed.

11. Regional Resident Organization (RRO) means an incorporated nonprofit organization or association for public housing that meets each of the following requirements:

a. The RRO is regional (i.e., not limited by HUD areas);

b. The RRO has experience in providing start-up and capacity-building training to residents and resident organizations; and

c. Public housing residents representing different geographical locations in the region must comprise the majority of the Board of Directors.

12. Resident Advisory Board (RAB) refers to a board or boards whose membership consists of individuals who adequately reflect and represent the residents assisted by the PHA. (See 24 CFR 903.13 for a complete definition.)

13. Resident Association (RA) means any or all of the forms of resident organizations as they are defined elsewhere in this Definitions section and includes Resident Councils (RCs), Resident Management Corporations (RMCs), Regional Resident Organizations (RROs), Statewide Resident Organizations (SROs), Jurisdiction-Wide Resident Organizations, and National Resident Organizations (NROs). This NOFA uses ”Resident Association” or ”RA” to refer to all eligible types of resident organizations.

14. Resident Council (RC) must consist entirely of people residing in public housing and must meet each of the following criteria:

a. It may represent residents residing:

(1) In scattered site buildings;

(2) In areas of contiguous row houses;

(3) In one or more contiguous buildings;

(4) In a development; or

(5) In a combination of these buildings or developments;

b. It must adopt written procedures such as bylaws; and

c. It must have a democratically elected governing board that is elected by the voting membership. (Please see the requirements of 24 CFR 964.115 for more information.)

15. Resident Management Corporation (RMC) means an entity that proposes to enter into, or enters into, a contract to conduct one or more management activities of a PHA and meets the requirements of 24 CFR 964.120.

16. Secretary means the Secretary of Housing and Urban Development.

17. Senior person means a person who is at least 62 years of age.

18. Site-Based Resident Associations means resident councils or resident management corporations representing a specific public housing development.

19. Statewide Resident Organization (SWO) is an incorporated nonprofit organization or association for public housing that meets the following requirements: (a) The SWO has statewide jurisdiction; (b) The SWO has experience in providing start-up and capacity-building training to residents and resident organizations; and (c) Public housing residents representing different geographical locations in the state must comprise the majority of the Board of Directors.

B. Program Description

1. The Public Housing NN program provides grants to PHAs to: (1) Update and expand existing NN/community technology centers; or (2) establish new NN centers.

2. NN centers must be located within a public housing development, on PHA land, or within reasonable walking distance to the PHA development(s).

3. HUD is looking for applications that implement comprehensive programs within the 3-year grant term, which will result in improved economic self-sufficiency for public housing residents. HUD is also looking for proposals that involve partnerships with organizations that will supplement and enhance the services offered to residents.

4. NN centers provide computer and Internet access for public housing residents and offer a full range of computer, educational, and job training services. Applicants should submit proposals that will incorporate computer and Internet use to: provide job training for youths, adults, and seniors; expand educational opportunities for residents; promote economic self-sufficiency and help residents transition from welfare to work; assist children with homework; provide guidance to high school students (or other interested residents) for post-secondary education (college or trade schools); and provide other services deemed necessary after input from residents.

5. All applicants must complete a business plan (see sample form HUD-52766 provided in the instructions download for the NN application on Grants.gov) covering the 3-year grant term. The applicant's business plan and narrative must indicate how the center(s) will become self-sustaining after the grant term expires. Proposed grant activities should build on the foundation created by previous grants whose aim was to help residents achieve self-sufficiency, such as Resident Opportunities and Self-Sufficiency (ROSS) grants; previous NN grants; or other federal, state, and local self-sufficiency efforts.

C. Eligible Activities

1. Hiring a Qualified Project Coordinator To Administer the Grant Program. A qualified Project Coordinator must have at least 2 years of experience running a community technology center and working to provide supportive services to typically underserved populations. The Project Coordinator should be hired for the entire term of the grant. The Project Coordinator is responsible for ensuring that the center achieves its proposed goals and objectives. In addition, the Project Coordinator is responsible for the following activities:

a. Marketing the program to residents;

b. Assessing residents' needs, interests, skills, and job-readiness;

c. Assessing residents' needs for supportive services, e.g., childcare and transportation;

d. Working with RCs and/or RABs;

e. Designing and coordinating grant activities based on residents' needs and interests; and

f. Monitoring the progress of program participants and evaluating the overall success of the program. For more information on how to measure performance, please see Rating Factor 5 in the “Application Review Information” section of this NOFA.

2. Literacy training and General Equivalency Diploma (GED) preparation;

3. Computer training, from basic to advanced;

4. College preparatory courses and information;

5. Job Training and Activities Leading to Self-Sufficiency. Job training for very low- and low-income persons is a requirement under Section 3 of the Housing and Urban Development Act of 1968. Some examples of the job training skills encouraged are: oral and written communication; work ethic; interpersonal and teamwork skills; resume writing; interviewing techniques; creating job training and placement programs with local employers and employment agencies; tax preparation and submission assistance, including Earned Income Tax credits; and other training activities, using the NN center, that can help residents move toward housing and economic self-sufficiency. Examples of such activities include financial literacy, credit repair, and homeownership training, as well as post-employment follow-up to assist residents who have transitioned to the workplace.

6. Physical improvements. Physical improvements must relate to providing space for a NN center. Renovation, conversion, wiring, and repair costs may be essential elements of physical improvements. In addition, architectural, engineering, and related professional services required to prepare plans or drawings, write-ups, specifications, or inspections may also be part of the cost of implementing physical improvements.

a. Creating an accessible space for persons with disabilities is an eligible use of funds. Refer to Office of Management and Budget (OMB) Circular A-87, “Cost Principles for State, Local, and Indian Tribal Governments.”

b. The renovation, conversion, or joining of vacant units in a PHA development to create space for the equipment and activities of a NN center (computers, printers, and office space) are eligible activities for physical improvement.

c. The renovation or conversion of existing common areas in a PHA development to accommodate a NN center is also eligible.

d. If renovation, conversion, or repair is done offsite, the PHA must provide documentation with its application that it has control of the proposed property and will continue to have control for the grant term. Control can be demonstrated through a lease agreement, ownership documentation, or other documentation that demonstrates that the PHA will have control of the proposed property for the duration of the grant term.

7. Maintenance and insurance costs. Includes installing and maintaining the hardware and software, as well as insurance coverage for the space and equipment.

8. Purchase of computers, printers, software, other peripheral equipment, and furniture for the NN Center are eligible expenses. In addition, costs of computer hardware and software for the needs of persons with disabilities are eligible expenses.

9. Distance Learning Equipment. Distance learning equipment (including the costs for videocasting and purchase/lease/rental of distance learning equipment) is an eligible use of funds. The proposal must indicate that the center will be working in a virtual setting with a college, university, or other educational organization. Distance learning equipment can also be used to link one or more centers so that residents can benefit from courses being offered at only one site.

10. Security and related costs. Includes space and minor refitting, locks, and other equipment for safeguarding the center and other longer-term security measures, as needed.

11. Hiring Residents. Grantees may hire residents to help with the implementation of this grant program.

12. Administrative Costs. See Section IV.E. for information on this topic.

13. Staff Training and Long-Distance Travel. Funds may be used for applicant staff or subcontractors' training in program-relevant areas. This activity should not exceed $5,000 and must receive prior approval from the grantee's local HUD field office. See Section IV.E. for more information on this topic.

D. Regulations Governing the Neighborhood Networks Grant

The Neighborhood Networks program is covered by regulations in 24 CFR parts 905 and 968.

II. Award Information

A. Total Funding. The Department expects to award approximately a total of $10 million under the Public Housing NN program in FY 2007. Awards will be made as follows:

1. Forty percent of available Public Housing NN funding will be used for updating and expanding existing computer technology centers. The other 60 percent will provide grants to establish and operate new NN centers.

2. PHAs must use the number of occupied public housing units as of September 30, 2006, per their budget. This is required so that PHAs can determine the maximum grant amount they are eligible for in accordance with the categories listed below. PHAs should clearly indicate on the Fact Sheet (form HUD-52751) the number of units under management.

a. Funding Levels For Existing Centers:

Number of conventional units | Maximum funding
1 to 780 units | $150,000
781 to 2,500 units | 200,000
2,501 to 7,300 units | 250,000
7,301 or more units | 300,000

b. Funding Levels For New Centers:

Number of conventional units | Maximum funding
1 to 780 units | $300,000
781 to 2,500 units | 400,000
2,501 to 7,300 units | 500,000
7,301 or more units | 600,000

B. Grant Period. Three years. The grant period shall begin the day the grant agreement and the form HUD-1044, “Assistance Award/Amendment,” are signed by both the grantee and HUD.

C. Grant Extensions. Requests to extend the grant term must be submitted in writing by the grantee to the local HUD field office. Such requests must be made prior to grant termination and with at least 30 days' notice, to give the field office a reasonable amount of time to fully evaluate the request. Requests must explain why the extension is necessary, what work remains to be completed, and what work and progress was accomplished to date. Extensions may be granted one time only by the field office for a period not to exceed 6 months and may be granted for an additional 6 months by the HUD Headquarters program office at the request of the field office. Extensions will only be granted for good cause.

D. Type of Award. Grant agreement.

E. Subcontracting. Subcontracting is permitted. Grantees must follow HUD procurement regulations found at 24 CFR 85.36.

III. Eligibility Information

A. Eligible Applicants. Only PHAs are eligible to apply for this funding category. Tribes/TDHEs, nonprofit organizations, and RAs are not eligible to apply for this funding category.

B. Cost Sharing or Matching. All applicants are required to obtain a 25 percent cash or in-kind match. The match is a threshold requirement. Applicants who do not demonstrate the minimum 25 percent match will fail the threshold requirement and will not receive further consideration for funding. Match contributions that are proposed to be used for ineligible activities will not be accepted or counted. Please see the section below on threshold requirements for more information on what is required for the match.

C. Other

1. Threshold Requirements. Applicants must respond to each threshold requirement clearly and thoroughly by following the instructions below. If an application fails one threshold requirement (regardless of the type of threshold), it will be considered a failed application. In addition to the threshold requirements outlined below, all applicants will be subject to all thresholds listed in the: General Section of the SuperNOFA that was published in the Federal Register on January 18, 2007 (72 FR 2396); the Introduction to the SuperNOFA, published March 13, 2007 (72 FR 114354); and Supplemental Information to the General Section and Technical Corrections, published May 11, 2007 (72 FR 27032). Applicants should refer only to the General Section supplemental information in the May 11, 2007 Notice. These collectively are referred to throughout this document as the General Section.

a. Match. All applicants are required to commit a 25 percent match in cash or in-kind donations, is defined in this paragraph. Joint applicants must together have at least a 25 percent match. Applicants who do not demonstrate the minimum 25 percent match will fail this threshold requirement and will not receive further consideration for funding. Match donations must be firmly committed. Firmly committed means that the amount of match resources and their dedication to NN-funded activities must be explicit, in writing, and signed by a person authorized to make the commitment. Letters of commitment and memoranda of understanding (MOUs) must be on organization letterhead, and signed by a person authorized to make the commitment. The letters of commitment/MOUs must indicate the total dollar value of the commitment.

For example, if an organization is proposing to donate the cost of training 15 residents at a fee of $300 per resident, the letter must show the total value, or 15 residents × $300 = $4,500. If this donation will be an annual donation for the life of the grant (3 years), the letter must also state this and show a total value of $4,500 × 3 years = $13,500.

Match letters must be dated between the publication date of this NOFA and the application deadline published in this NOFA or an amended deadline, and must indicate how the commitment will relate to the proposed program. If the commitment is in-kind, the letters should explain exactly what services or material will be provided. The commitment must be available at time of award. Applicants proposing to use their own non-ROSS or non-NN grant funds to meet the match requirement must also include a letter of commitment indicating the type of match (cash or in-kind), the source of the funds, and how the match will be used. Please note that costs paid by another federal assistance award are allowable to be used as cost sharing or matching where such use is not inconsistent with federal statutes. This letter must also be signed by a person authorized to make the commitment on behalf of the applicant organization. Grant awards shall be contingent upon letters of commitment being submitted with the application. A match proposed to be used for ineligible activities will not be accepted or counted. Please see the General Section for instructions on how to submit the required letters with an electronic application. Applicants should be aware that each time they submit an application to Grants.gov, they must submit a complete set of faxed materials for each application. See General Section 72 FR 27032).

(1) Applicants shall compute the value of volunteer time and services using the professional rate for the local area or the national minimum wage rate. Note: Applicants may not count their staff time toward the Match.

If grantees propose to use volunteers for development or operations work that would otherwise be subject to payment of Davis-Bacon or HUD-determined prevailing wage rates (including construction, rehabilitation, or maintenance work), their services must be computed using the appropriate methodology. Additional information on these wage rates can be found at: http://www.hud.gov/offices/olr/olrfoa.cfm, or by contacting HUD field office labor relations staff or the PHA. Such volunteers must also meet the requirements of section 12(b) of the United States Housing Act of 1937 and 24 CFR part 70;

(2) In order for HUD to determine the value of any donated material, equipment, staff time, building, or lease, an application must provide a letter from the organization making the donation. The letter must state the value of the contribution.

(3) Other resources/services that can be committed include: in-kind services provided to the applicant; funds from federal sources that are allowed by statute, such as Community Development Block Grant (CDBG) funds, funds from any state or local government sources, and funds from private contributions. Applicants may also partner with other program funding recipients to coordinate the use of resources in the target area.

b. Past Performance. HUD's field offices will evaluate data provided by applicants, as well as their past performance, to determine whether applicants have the capacity to manage the grant they are applying for. Field offices will evaluate the contract administrators' past performance for applicants required to have a contract administrator. Using Rating Factor 1, the field office will evaluate applicants' past performance. Applicants should carefully review Rating Factor 1 to ensure their application addresses all of the criteria requested. If applicants fail to address what is requested in Rating Factor 1, their application will not receive further consideration.

c. Minimum Score for All Fundable Applications. Applications that pass all threshold requirements and go through the ranking and rating process must receive a minimum score of 75 in order to be considered for funding.

d. The Dun and Bradstreet Universal Numbering System (DUNS) Number Requirement. Refer to the General Section for information regarding the DUNS requirement. You will need to have a DUNS number to receive an award from HUD.

e. Off-site Physical Improvements. Physical improvements that relate to providing space for an NN center are eligible activities, including improvements for offsite centers. If renovation, conversion, or repair is done offsite, the PHA must describe this circumstance in its narrative and provide documentation with its application that it has control of the proposed property and will continue to have control for the period of grant award. Control can be demonstrated through a lease agreement, ownership documentation, or other documentation that demonstrates that the PHA will have control of the proposed property for the grant period of performance.

f. Federal Debt. In addition to the requirements in the General Section, applicants at the time of award that have federal debt or are in default of an agreement with the Internal Revenue Service (IRS) will not be funded. Applicants selected for funding have an obligation to report to HUD changes in status of a current IRS agreement covering federal debt.

2. Program Requirements

a. Physical Improvements. All renovations must meet appropriate accessibility requirements, including the requirements of Section 504 of the Rehabilitation Act of 1973 at 24 CFR part 8, the Architectural Barriers Act at 24 CFR part 40, and the Americans with Disabilities Act. Design, construction, or alteration of buildings in conformance with the Uniform Federal Accessibility Standards (UFAS) shall be deemed by HUD to comply with the requirements of 24 CFR 8.21, 8.22, 8.23, and 8.25 with respect to those buildings.

b. Contract Administrator. PHAs that are troubled at the time of application filing are required to submit a signed Contract Administrator Partnership Agreement. The agreement must be for the entire grant term. Grant awards must include a signed Contract Administrator Partnership Agreement in the application. Failure to submit the required Contract Administrator Partnership Agreement, or submission of an incomplete or insufficient agreement will be treated as a curable deficiency.

The contract administrator must assure that the financial management system and procurement procedures that will be implemented during the grant term comply with 24 CFR part 85. CAs are expressly forbidden from accessing HUD's Line of Credit Control System (LOCCS) and submitting vouchers on behalf of grantees. NN grant funds cannot be used to hire or pay for the services of a contract administrator.

Contract administrators must assist PHAs in meeting HUD's reporting requirements; see Section VI.C., “Reporting,” for more information. Troubled PHAs are not eligible to be contract administrators. Grant writers who assist applicants in preparing their NN applications are also ineligible to be contract administrators. Organizations that the applicant proposes to use as the contract administrator must not violate the conflict-of-interest standards, as defined in 24 CFR part 85. Please also refer to the General Section of the SuperNOFA for more information about conflict-of-interest and Code of Conduct requirements.

c. Other Requirements and Procedures Applicable to All Programs. All applicants, lead and non-lead, should refer to “Other Requirements and Procedures Applicable to All Programs” of the General Section for other requirements to which they may be subject.

3. Number of Applications Permitted

a. General. HUD will only fund one application per applicant or joint applicants.

b. Joint applications. Two or more applicants may join together to submit a joint application for proposed grant activities, but one applicant must be designated the lead applicant. HUD will use the applicant identified on the form SF-424 “Application for Federal Assistance,” as the lead applicant. Only the lead applicant is subject to the threshold requirements outlined in this program section and the General Section. The lead applicant must be registered with Grants.gov and submit the application using the Grants.gov portal. Applicants who are part of a joint application cannot also submit separate applications as sole applicants under this NOFA.

Note: Joint applicants may add their number of units together in order to determine funding eligibility for this program.

4. Eligible Participants. NN centers shall be available for use by residents of public housing and residents of other housing assisted with funding made available under HUD Appropriations Acts (e.g., residents receiving tenant-based or project-based voucher assistance, as well as elderly and disabled residents, are eligible to receive assistance).

IV. Application and Submission Information

A. Address to Request an Application Package. Copies of this published NOFA and application forms will be posted on http://www.grants.gov/applicants/apply_for_grants.jsp. If you have difficulty accessing the information, you may call the Grants.gov help desk toll-free at (800) 515-GRANTS or you may send an email message to Support@Grants.gov.

B. Content and Form of Application Submission

1. Application Preparation. Before preparing an application, applicants should carefully review the program description, program requirements, ineligible activities, threshold requirements contained in this NOFA, and the General Section of the SuperNOFA. Applicants should also review each rating factor found in the “Application Review Information” section before writing a narrative response. Applicants' narratives must be as descriptive as possible in order to ensure that every requested item is addressed. Applicants should be sure to include all requested information, according to the instructions found in this NOFA and the General Section. This will help ensure fair and accurate review of the application.

2. Content of Application. Applicants must write narrative responses to each of the rating factors described in the section below. Responses must demonstrate that applicants have the necessary capacity to successfully manage this grant program. Applicants should ensure that their narratives are written clearly and concisely so that HUD reviewers, who may not be familiar with the Public Housing NN program, fully understand the proposal.

3. Format of Application

a. Applications may not exceed 40 narrative pages. Narrative pages must be submitted as separate electronic files, and formatted as double-spaced, single-sided documents. Each file should have the pages numbered consecutively. Use Times New Roman font style and font size 12. Supporting documentation, required forms, and certifications will not be counted toward the 40 narrative page limit. Applicants should make every effort to submit only what is necessary in terms of supporting documentation. Please see the General Section for instructions on how to submit supporting documentation with your electronic application. Applicants should be aware that Grants.gov is not compatible with Microsoft Vista or Microsoft Office 2007. Applications submitted in Microsoft Office 2007 will be rejected by Grants.gov. Applicants with Microsoft Office 2007 should prepare files compatible with Microsoft Office versions 1997-2003. HUD currently can read Microsoft Office software through 2003. If an application is submitted using software other than Microsoft Office 2003 or lower or Adobe Acrobat version 6.0 or lower, HUD will not be able to open the files. Applications with attachments not meeting these requirements cannot be reviewed and will result in a lower rating score. Applicants using older versions of Microsoft Office should follow the directions in the General Section.

b. The following checklist has been provided to help applicants submit all of the required forms and information. Electronic application filers should make sure the file names for their narratives reflect the subject matter covered. Applicants should follow the special instructions found in the General Section for naming files. File names with special characters cannot be opened by HUD. Each narrative must be saved as a separate file. All application files must be “zipped” together and sent as an attachment in the application submittal. Copies of the required forms may be downloaded with the application package and instructions from the following Web site: http://www.grants.gov/applicants/apply_for_grants.jsp. You must use the forms that are included with the 2007 application to avoid using outdated forms that may be on HUDCLIPS or found from another source. Please include a header in your narrative pages and any additional pages to indicate the applicant name and the requirement being responded to.

(1) Required Forms

(a) Acknowledgment of Application Receipt form ( form HUD-2993), for paper application submissions only (you must have an approved waiver in order to submit a paper application); (b) Application for Federal Assistance (SF-424).

(Note: Applicants must enter their legal name in box 8.a. of the SF-424 as it appears in the Central Contractor Register (CCR). See the General Section regarding CCR registration);

(c) SF-424 Supplement—Survey on Ensuring Equal Opportunity for Applicants (listed as “Faith Based EEO Survey” (SF-424 SUPP) on Grants.gov);

(d) Questionnaire for HUD's Initiative on Removal of Regulatory Barriers (form HUD-27300) (“HUD Communities Initiative Form” on Grants.gov);

(e) ROSS Fact Sheet (form HUD-52751);

(f) Grant Application Detailed Budget (form HUD-424-CB) (“HUD Detailed Budget Form” on Grants.gov);

(g) Grant Application Detailed Budget Worksheet (form HUD-424-CBW); (Please Note: Applicants must submit a separate form HUD-424-CBW for any subcontract worth 10 percent or more of the requested grant amount);

(h) Applicant/Recipient Disclosure/Update Report (form HUD-2880);

(i) Certification of Consistency with RC/EZ/EC-II Strategic Plan (form HUD-2990), if applicable;

(j) Certification of Consistency with the Consolidated Plan (form HUD-2991);

(k) Disclosure of Lobbying Activities (form HUD-SF-LLL)—if applicable;

(l) Disclosure of Lobbying Activities Continuation Sheet (form HUD-SF-LLL-A)—if applicable;

(m) You Are Our Client! Grant Applicant Survey (form HUD-2994-A) (Optional);

(n) HUD-96011, “Third Party Documentation Facsimile Transmittal” (“Facsimile Transmittal Form” on Grants.gov); this form must be used as the cover page to fax third-party letters, documents, etc., that cannot be attached to the electronic application.

Note: HUD will neither accept entire applications submitted by facsimile nor read a faxed document transmitted without the HUD-96011 cover page.

(o) Code of Conduct, as required by the General Section; and

(p) Statement on Affirmatively Furthering Fair Housing, as required by the General Section.

(2) Materials To Address Threshold Requirements

(a) Letters from partners attesting to match;

(b) Letter from applicant's organization attesting to match (if applicant is contributing to match);

(c) Contract Administrator Partnership Agreement (required for troubled PHAs) (form HUD-52755); and

(d) If applicable, documentation of site control for the period of grant award for off-site physical improvements.

(3) Materials for Rating Factor 1

(a) Narrative

(b) Chart A: Program Staffing (form HUD-52756)

(c) Chart B: Applicant/Administrator Track Record (form HUD-52757)

(d) Resumes/Position Descriptions

(4) Materials for Rating Factor 2

• Narrative

(5) Materials for Rating Factor 3

(a) Narrative

(b) Business Plan (see sample) (form HUD-52766)

(6) Materials for Rating Factor 4

• Narrative

(7) Materials for Rating Factor 5

(a) Narrative

(b) Logic Model (form HUD-96010)

C. Submission Dates and Times

1. Deadline Dates. Electronic applications must be received and validated by Grants.gov no later than 11:59:59 p.m. eastern time on the deadline date. Please note that the validation process may take up to 72 hours. For applicants receiving a waiver to the electronic filing requirement, the approval of the waiver request will contain submission instructions. See the General Section and Section F below for instructions regarding waivers to the electronic application submission requirements. Applicants granted approval to submit a paper application will receive instructions on where to submit this application. All applications, regardless if submitted via Grants.gov or on paper, must be received by the deadline date.

2. Proof of Timely Submission. Please see the General Section for this information for electronic application submission. For paper applications, proof of timely submission is the Certificate of Mailing (USPS Form 3817) for the United States Postal Service or electronic receipt showing the date, time, and location of the mailing provided by the United States Post Office showing mailing of the application with sufficient time for it to be received by HUD by the application deadline date. In the case of applications submitted to HUD via DHL, FedEx, or UPS, documentary proof of timely submission will be the delivery service receipt indicating that the application was submitted to the delivery service with sufficient time for it to be received by HUD by the application deadline date. Applicants using delivery services other than DHL, FedEx, or UPS do so at their own risk, as HUD cannot guarantee delivery due to HUD Security procedures.

Please remember that mail to federal facilities is screened and irradiated prior to delivery, a process that can take several days. Applicants should take the mailing and security screening timeline into account when submitting a paper application to HUD and allow ample time for the application to be delivered to the appropriate HUD office. An application delivered to HUD, but not to the HUD office designated for receipt, does not meet the timely filing requirements. If you mail your application to the wrong location, or the office designated for receipt does not receive it, your application will be considered late and not be considered for funding. HUD will not be responsible for directing applications to the appropriate office.

D. Intergovernmental Review. Not applicable.

E. Funding Restrictions

1. Reimbursement for Grant Application Costs. Applicants who receive a Public Housing NN award are prohibited from using such funds to reimburse any costs incurred in preparing their applications.

2. Covered Salaries

a. Project Coordinator. The Public Housing NN program will fund up to $68,000 in combined annual salary and fringe benefits for one full-time Project Coordinator or two (or more) part-time coordinators sharing a full-time position. Applicants may also propose to use a coordinator on a part-time basis at a lesser salary. For audit purposes, applicants must have documentation on file demonstrating that the salary paid to the Project Coordinator is comparable to similar professions in their local area.

b. Hiring Residents. Grantees may hire residents to help with the implementation of this grant program. No more than 5 percent of grant funds can be used for this purpose.

c. Public Housing NN funds may be used to pay for salaries of staff that provide direct services to residents. Direct services staff, for purposes of this NOFA, are defined as applicant personnel or subcontractors who, as their primary responsibility, provide services directly to residents that participate in the activities described in this application, e.g., computer skills training. Public Housing NN funds may also be used to pay for administrative staff working on the NN program, but administrative salaries may not exceed the 10 percent cap for administrative expenses.

d. Public Housing NN funds may only be used for the types of salaries described in this section according to the restrictions described herein. Public Housing NN funds may not be used to pay for salaries of any other kind.

e. Public Housing Neighborhood Networks grant funds cannot be used to hire or pay for the services of a contract administrator.

3. Funding Requests in Excess of Maximum Grant Amount. Applicants that request funding in excess of the maximum grant amount that they are eligible to receive will be given consideration only for the maximum grant amount for which they are eligible. If awarded, the grantee will work with the field office to re-apportion the grant funds for eligible activities proposed in the original application.

4. Administrative Costs. Administrative costs may include, but are not limited to, purchase of office furniture, equipment, supplies, printing and postage, local travel, utilities, and administrative salaries for staff working on the Public Housing NN grant. To the maximum extent possible, when leasing space or purchasing equipment or supplies, business opportunities should be provided to businesses covered under Section 3 of the Housing and Urban Development Act of 1968. Section 3 requires that grant recipients provide business opportunities to very low- and low-income persons. Administrative expenses, including administrative salaries, must not exceed 10 percent of the total grant amount requested from HUD. Administrative costs must adhere to OMB Circular A-87. Please use form HUD-424-CBW to itemize your administrative costs. See other parts of this section (Section IV.E.) for more information. An indirect cost rate will not be accepted.

5. Eligible activity costs. Public Housing NN funding may be used to pay for those costs identified under Section 1.C. of this NOFA, “Eligible Activities.”

6. Long-Distance Travel. Grantees may not use more than $5,000 for applicant staff/subcontractor long-distance travel activities. Travel must relate to the purpose of this grant and must receive prior approval from the grantee's local HUD field office.

7. Ineligible Activities/Costs. Grant funds may not be used for ineligible activities:

a. Payment of wages and/or salaries to residents/participants for receiving supportive services and/or training programs;

b. Purchase, lease, or rental of land;

c. Purchase, lease, or rental of vehicles;

d. Vehicle maintenance and/or insurance;

e. Entertainment costs;

f. Purchase of food;

g. Salaries and fringe benefits that are not for direct-services staff or Public Housing NN administrative staff. Direct-services staff, for purposes of this NOFA, are defined as applicant personnel or subcontractors who, as their primary responsibility, provide services directly to residents who participate in Public Housing NN activities;

h. Stipends;

i. Payment for or scholarships for degree programs;

j. Cost of application preparation;

k. Costs that exceed limits identified in the NOFA for the following: Project Coordinator, resident salaries, physical improvements (see below), long-distance travel, and administrative expenses;

l. Public Housing NN funds cannot be used to hire or pay for the services of a contract administrator; and

m. Any other costs not eligible under section 9(d)(1)(E) of the United States Housing Act of 1937.

8. Physical Improvements. For new centers, expenses for physical improvements may not exceed 20 percent of the total grant amount requested from HUD. For existing centers, expenses for physical improvements may not exceed 10 percent of the total grant amount.

F. Other Submission Requirements

1. All applicants are required to submit their applications electronically via Grants.gov, unless they request and are approved by HUD for a waiver of that requirement. Please refer to the General Section for information on how to submit your application and all attachments electronically via Grants.gov. See the General Section for instructions for requesting a waiver of the electronic application submission requirement.

2. For Waiver Recipients Only. Applicants wishing to submit a paper application should submit their waiver requests via e-mail to Dina_Lehmann-Kim@hud.gov or Anice.M.Schervish@hud.gov. Waiver requests must be submitted no later than 15 days prior to the application deadline date. All applications must be received by HUD no later than 11:59:59 p.m. eastern time on the application deadline date.

3. Number of Copies. Only applicants receiving a waiver to the electronic submission requirement may submit a paper copy application. When the waiver request is approved, the applicant will be provided information on how many copies are needed and where to submit the copies. All paper applications must be received by the deadline date. Any paper applications submitted without an approved waiver will not be considered.

V. Application Review Information

A. Criteria

1. Factors for Award Used to Evaluate and Rate Applications to the Public Housing NN Program. The factors for rating and ranking applicants and maximum points for each factor are provided below. The maximum number of points available for this program is 102. This includes two Renewal Community/Empowerment Zones/Enterprise Community (RC/EZ/EC-II) bonus points. The General Section contains a certification that must be completed in order for the applicant to be considered for RC/EZ/EC-II bonus points. A listing of federally designated RC/EZ/EC-IIs is available on HUD's Web site at: http://www.hud.gov/offices/cpd/economicdevelopment/programs/rc/tour/roundnumber.cfm. The agency certifying to RC/EZ/EC-II status must be included in the listing on HUD's Web site. Please see the General Section for more details. Note: Applicants should carefully review each rating factor before writing a response. Applicants' narratives must be descriptive and detailed in order to ensure that every requested item is addressed. Applicants should make sure their narratives thoroughly address the rating factors below and include all requested information, according to the instructions found in this NOFA. This will help ensure fair and accurate review of your application.

a. Rating Factor 1: Capacity of the Applicant and Relevant Organizational Staff (up to 25 points).

This factor addresses whether the applicant has the organizational capacity and resources necessary to implement successfully the proposed activities within the grant period. In rating this factor, HUD will evaluate the qualifications and experience of the staff the applicant proposes to administer the Public Housing NN program. Please do not include the Social Security Numbers (SSNs) of any staff members.

(1) Proposed Program Staffing (up to 10 points).

(a) Staff Experience (up to 4 points). HUD is requesting a thorough description of the knowledge and experience of the proposed Project Coordinator, staff, and partners in planning and managing programs. Experience will be judged in terms of recent, relevant, and successful experience of proposed staff to undertake program activities. In rating this factor, HUD will consider experience within the last 5 years to be recent; experience pertaining to the specific activities being proposed to be relevant; and experience producing specific accomplishments to be successful. Applicants will receive a greater amount of points if the proposed staff has recent and applicable experience. If proposed staff has recent and relevant experience both in providing community technology services and in delivering social service programs to underserved populations, applicants will receive a maximum score of 4 points. If proposed staff has recent and relevant experience in only one area, applicants will receive 2 points. If proposed staff has experience in neither area, applicants will receive a score of 0 for this subfactor.

The following information should be included in the application in order to provide HUD an understanding of the proposed staff's experience and capacity:

(i) The number of staff years (one staff year = 2,080 hours) to be allocated to the program by each employee, as well as each of their roles in the program;

(ii) The staff's relevant educational background and/or work experience;

(iii) Relevant and successful experience running programs whose activities include social services and computer programs that are similar to the eligible program activities described in this NOFA.

(b) Hiring Residents (up to 3 points). Three points will be awarded if applicants commit to hiring one to three residents. PHAs may hire qualified residents and/or propose to train the residents they hire. Small PHAs should hire one person, medium PHAs should hire one to two people, and large PHAs should hire three people in order to get the maximum score. In order to receive points for this subfactor, applicants must explain in their narrative that they will hire residents, indicate the number of residents to be hired, and indicate the work they will be assigned.

(c) Organizational Capacity (up to 3 Points). Applicants will be evaluated based on whether they and/or their partners have sufficient qualified personnel to deliver the proposed activities in a timely and effective fashion.

In order to enhance or supplement capacity, applicants should provide evidence of partnerships with nonprofit organizations or other organizations that have experience providing community technology services to typically underserved populations. Applicants' narratives must describe their ability to immediately begin the proposed work program. Applicants may fax (see the General Section for instructions) resumes or position descriptions (where staff is not yet hired) for all key personnel. Please see the General Section for instructions on how to submit the required information with your electronic application. (Resumes/position descriptions do not count toward the 40-page limit.) Note: Applicants should use the narrative for this subfactor to indicate whether they are single or joint applicants.

(2) Past Performance of Applicant/Contract Administrator (up to 5 points). Applicants' narratives must describe how they (or their contract administrator) successfully implemented grant programs, such as those listed below, designed to promote resident self-sufficiency or moving from welfare to work. Applicants' past experience may include, but is not limited to, running programs aimed at helping residents of low-income housing achieve economic self-sufficiency; e.g., ROSS grants, prior Public Housing NN grants, and Youthbuild. Applicants' narratives must indicate the grants they received and managed, the grant amounts, and grant terms (years) of the grants they are counting toward past experience. Applicants will be evaluated according to the following criteria:

(a) Benefits gained by participating residents (up to 3 points). These must be measurable. Applicants should describe results their programs have obtained (e.g., higher incomes, improved grades, higher rates of employment, increased savings, improved literacy, etc.); and

(b) Description of timely grant expenditure throughout the terms of past grants (up to 2 points). Timely means regular drawdowns throughout the life of the grant, i.e., quarterly drawdowns, with all funds expended by the end of the grant term.

(3) Program Administration and Fiscal Management (up to 10 points).

(a) Program Administration (up to 4 points). Applicants should describe how they will manage the program, describe how HUD can be sure that there is program accountability, and provide a description of proposed staff's roles and responsibilities. Applicants should also describe how grant staff and partners will report to the Project Coordinator and other senior staff.

(b) Fiscal Management (up to 6 points). In rating this factor, applicants' skills and experience in fiscal management will be evaluated. If applicants have had any audit or material weakness findings in the past 5 years, they will be evaluated on how well they have addressed them. Applicants must provide the following:

(i) A complete description of their fiscal management structure, including fiscal controls currently in place, which includes those of a contract administrator for applicants who are required to have one (i.e., troubled PHAs); (up to 2 points)

(ii) Applicants must list any audit findings in the past 5 years (HUD Inspector General, management review, fiscal, etc.), and material weaknesses and what has been done to address them. Applicants who have not had any audit findings in the past 5 years will automatically receive 2 points. Applicants who have had audit findings within the past 5 years that have been resolved will receive one point. Unresolved audit findings will receive 0 points; (up to 2 points) and

(iii) For applicants who are required to have a contract administrator, describe the skills and experience the contract administrator has in managing Federal funds. (up to 2 points) Applicants who are not required to have a contract administrator will automatically receive 2 points.

b. Rating Factor 2: Need (Up to 15 Points)

This factor addresses the need for funding an applicant's proposed program. In responding to this factor, applicants will be evaluated on the extent to which they describe and document the level of need for their proposed activities. NOTE: Applicants should use the narrative for this rating factor to indicate whether they are applying to open a new center or expand/update an existing center.

In responding to this factor, applicants must include:

(1) Socioeconomic Profile (up to 7 points). In order to receive points for this subfactor, applicants must provide a thorough socioeconomic profile of the eligible residents to be served by the program, including education levels, income levels, employment statistics, and other socioeconomic information for the local area. Applicants may either: (1) Provide data for the local area and show that the residents reflect the local area or (2) may provide resident-specific data.

Applicants will receive up to 7 points by providing a thorough socioeconomic profile of the eligible residents to be served by the program, as described above. Applicants will receive up to 3 points if they provide a basic socioeconomic profile of the area, but do not show that the residents to be served reflect that profile. Applicants will receive 0 points if they fail to provide the socioeconomic data on the community and/or eligible residents.

(2) Demonstrated Link Between Proposed Activities and Local Need (up to 8 points). Applicants' narratives must demonstrate a clear relationship between proposed activities, community needs, and the purpose of the program's funding, in order for points to be awarded for this factor.

Applicants will receive up to 8 points if their narratives demonstrate a strong relationship between: (1) The proposed activities, (2) local need, and (3) the purpose of the program funding. Applicants will receive up to 4 points if their narratives do not provide enough detail to determine a strong relationship between these criteria. Applicants will receive 0 points if their narratives fail to demonstrate a clear relationship between any of these criteria.

c. Rating Factor 3: Soundness of Approach (Up to 35 Points)

This factor addresses both the quality and cost-effectiveness of applicants' proposed business plan. The narrative for this rating factor, or applicants' budget and business plan, must indicate a clear relationship between proposed activities, the targeted population's needs, and the purpose of the program funding. Applicants' activities must address HUD's policy priorities outlined in this Rating Factor.

In rating this factor, HUD will consider:

(1) Quality of the Business Plan (up to 25 points). This factor evaluates both the applicants' business plan and budget, based on the following criteria:

(a) Specific Services and/or Activities (up to 15 points). Applicants' narratives must describe the specific services, course curriculum, and activities they plan to offer and who will be responsible for each. Applicants must also explain how the services they propose to offer will address residents'/community needs identified in Rating Factor 2. In addition to the narrative, applicants must also provide a business plan listing the specific services, activities, and outcomes they expect. The business plan must show a logical order of activities and progress and must tie to the outcomes and outputs applicants identify in the Logic Model (see Rating Factor 5). Please see a sample business plan (form HUD-52766). Applicants' narratives must explain how their proposed activities will:

(i) Involve community partners in the delivery of services (up to 4 points).

Applicants will receive up to 4 points if their narrative describes the full extent of partner-involvement in the delivery or support of their proposed programs. Applicants will receive up to 2 points if their narrative describes the existence of other community-based organizations in the area, but does not describe firm connections between such organizations and the proposed program. Applicants will receive 0 points if they fail to include partners or show how they will be involved in program delivery;

(ii) Involve Resident Associations and/or Resident Advisory Boards in the delivery of services (up to 3 points). Applicants will also be evaluated on whether they propose to work with Resident Associations (RAs) and/or Resident Advisory Boards (RABs) throughout the life of the grant. In order to receive points for this subfactor, applicants should explain how RAs and/or RABs will be involved in the planning and/or delivery of program services throughout the grant term. At a minimum, applicants should explain that they will confer with RAs and/or RABs to ensure that the programs they are delivering continue to reflect the needs and interests of residents.

Applicants will receive 3 points if they demonstrate that RAs and/or RABs will be involved in the planning and delivery of program services throughout the grant term. Applicants will receive up to 2 points if they show that RAs and/or RABs will be involved in either the planning or delivery of program services throughout the life of the grant. Applicants will receive one point if their narrative shows that they will confer with RAs and/or RABs throughout the life of the grant. Applicants will receive 0 points if none of these criteria are addressed; and

(iii) Offer comprehensive services versus a small range of services geared toward enhancing economic opportunities for residents (up to 8 points).

Applicants will receive up to 8 points if their narratives describe comprehensive and specific services, including course curricula, and activities they plan to offer and staff that will be responsible for each. In order to receive maximum points for this subfactor, applicants' narratives should also explain how the services will address residents'/community needs and how the services will help residents move toward economic self-sufficiency. Applicants will receive up to 4 points if their narratives describe the proposed program, but do not describe the spectrum of activities that they will be providing and the needs they will be targeting. Applicants will receive 0 points if they do not describe the services they will offer or how their program will help residents move toward self-sufficiency.

(b) Feasibility and Demonstrable Benefits (up to 5 points). This factor examines whether an applicant's business plan is logical, feasible, and likely to achieve its stated purpose during the term of the grant. HUD's desire is to fund applications that will quickly produce demonstrable results and advance the purposes of the Public Housing NN program.

(i) Timeliness (up to 2 points). This subfactor evaluates whether an applicant's business plan demonstrates that its project is ready to be implemented no later than 3 months following the execution of the grant agreement. The business plan must indicate time frames and deadlines for accomplishing major activities.

(ii) Description of the problem and solution (up to 3 points). The business plan will be evaluated based on how well an applicant's proposed activities address the needs described in Rating Factor 2.

(c) Budget Appropriateness/Efficient Use of Grant (up to 5 points). The score in this factor will be based on the following:

(i) Justification of expenses (up to 2 points). Applicants will be evaluated based on whether their expenses are reasonable, well explained, and support the objectives of their proposal.

(ii) Budget Efficiency (up to 3 points). Applicants will be evaluated based on whether their application requests funds commensurate with the level of effort necessary to accomplish their goals and anticipated results.

(iii) Applicants should note that the budget form HUD-424-CBW provides important information that allows HUD evaluators to assess how grant funds will be used. Additionally, the HUD-424-CBW requires that a separate form HUD-424-CBW be submitted for each subcontract that is 10 percent or more of the requested grant amount. If applicants do not submit a form HUD-424-CBW for their own organization, and/or if applicants propose to subcontract 10 percent or more of the requested grant amount and do not include a separate form HUD-424-CBW for each subcontract worth 10 percent or more of the requested grant amount, all points for Budget Appropriateness/Efficient Use of Grant will be lost (5 points). If form HUD-424-CBWs for subcontracts of 50 percent or more of the requested grant amount are not included, the application will lose 10 points.

An applicant will receive up to 5 points if expenses are reasonable, thoroughly explained, support the objectives of the proposal, and are commensurate with the level of effort necessary to accomplish the goals. An applicant will receive up to 3 points if the expenses support the objectives of the proposal but are not fully explained or do not fully support the level of effort necessary to accomplish the proposal's goals. An applicant will receive 0 points if expenses are not reasonable and/or the requested funds are not commensurate with the level of effort necessary to accomplish the proposal's goals.

(d) Ineligible Activities. Two points will be deducted for each ineligible activity proposed in the application, as identified in Section IV.E. For example, you will lose 2 points if you propose costs that exceed the limits identified in the NOFA for a Project Coordinator.

(2) Addressing HUD's Policy Priorities (up to 10 points). HUD wants to improve the quality of life for those living in distressed communities. HUD's grant programs are a vehicle for long-term, positive change that can be achieved at the community level. Applicants' narratives and business plans will be evaluated based on how well they meet the following HUD policy priorities:

(a) Improving the Quality of Life in Our Nation's Communities (up to 2 points). In order to receive points in this category, an applicant's narrative and business plan must indicate the types of activities, services, and training programs that will be offered. These programs should help residents successfully transition from welfare to work and earn higher wages, or help elderly/disabled residents to continue to live independently.

(b) Providing Full and Equal Access to Grassroots Faith-Based and Other Community-Based Organizations in HUD Program Implementation (up to 2 points). HUD encourages applicants to partner with grassroots organizations, e.g., civic organizations, and grassroots faith-based and other community-based organizations. These grassroots organizations have a strong history of providing vital community services, such as developing first-time homeownership programs, creating economic development programs, and providing job training and other supportive services. In order to receive points under this factor, an applicant's narrative and business plan must describe how applicants will work with these organizations and what types of services they will provide.

(c) Policy Priority for Increasing the Supply of Affordable Housing Through the Removal of Regulatory Barriers to Affordable Housing (up to 2 points).

Under this policy priority, higher rating points are available to: (1) Governmental applicants that are able to demonstrate successful efforts in removing regulatory barriers to affordable housing, and (2) nongovernmental applicants undertaking activities in jurisdictions that have undertaken successful efforts in removing barriers. For applicants to obtain the policy priority points for efforts to successfully remove regulatory barriers, applicants should complete form HUD-27300, “Questionnaire for HUD's Initiative on Removal of Regulatory Barriers.” A copy of HUD's Notice entitled “America's Affordable Communities Initiative, HUD's Initiative on Removal of Regulatory Barriers: Announcement of Incentive Criteria on Barrier Removal in HUD's 2004 Competitive Funding Allocations” can be found on HUD's Web site at http://www.hud.gov/initiatives/affordablecom.cfm. The information and requirements contained in HUD's regulatory barriers policy priority apply to this FY 2007 NOFA. A copy of form HUD-27300 can be found in the application download package posted at http://www.grants.gov/applicants/apply_for_grants.jsp. Applicants are encouraged to read the Notice, as well as the General Section to obtain an understanding of this policy priority and how it can impact their score. A number of questions in HUD-27300 expressly request the applicant to provide brief documentation with their response. Other questions require that for each affirmative statement made, the applicant must supply a reference, Internet link, or a brief statement indicating where the backup information may be found; and a point of contact, including a telephone number or e-mail address. The electronic copy of the HUD-27300 has space to identify an Internet link or reference that the material is being scanned and attached to the application as part of the submission or faxed to HUD in accordance with the facsimile submission instructions. When providing documents in support of your responses to the questions on the form, please provide the applicant name and project name and whether you are responding under column A or B. Then identify the number of the question and the Internet link or document name and attach all supporting documents using the attachment function at the end of the electronic form.

(d) Energy Star (up to 2 points). HUD has adopted a wide-ranging energy action plan for improving energy efficiency in all program areas. As a first step toward implementing the energy plan, HUD, the Environmental Protection Agency (EPA), and the Department of Energy (DOE) have signed a joint partnership to promote energy efficiency in HUD's affordable housing efforts and programs. The purpose of the Energy Star partnership is to promote energy efficiency in the affordable housing stock, but also to help protect the environment. Applicants constructing, rehabilitating, or maintaining housing or community facilities are encouraged to promote energy efficiency in design and operations. They are urged especially to purchase and use Energy Star-labeled products. Applicants providing housing assistance or counseling services are encouraged to promote the use of Energy Star materials and practices, as well as the construction of buildings to Energy Star standards, to both homebuyers and renters. Program activities can include developing Energy Star promotional and informational materials, outreach to low- and moderate-income renters and buyers on the benefits and savings when using Energy Star products and appliances, and promoting the designation of community buildings and homes as Energy Star compliant. For further information about Energy Star, see http://www.energystar.gov or call 1-888-STAR-YES (1-888-782-7937) or, for the hearing-impaired, 1-888-588-9920 TTY. Applicants demonstrating that they will meet one or more provisions of this policy priority will receive up to 2 points.

(e) Economic Opportunities for Low- and Very Low-Income Persons (Section 3) (up to 2 points). You will receive 2 points if your application demonstrates that you will implement Section 3 of the Housing and Urban Development Act of 1968 (12 U.S.C. 1701u) (Economic Opportunities for Low- and Very Low-Income Persons in Connection with Assisted Projects) and its implementing regulations at 24 CFR part 135 in connection with this grant, if awarded. Information about Section 3 can be found at HUD's Section 3 Web site at http://www.hud.gov/offices/fheo/section3/section3brochure.cfm. Your application must describe how you will implement Section 3 through the proposed grant activities. You must state that you will, to the greatest extent feasible, direct training, employment, and other economic opportunities to:

(a) Low- and very low-income persons, particularly those who are recipients of government assistance for housing, and

(b) Business concerns that provide economic opportunities to low- and very low-income persons.

d. Rating Factor 4: Leveraging Resources (Up to 10 Points)

(1) This factor addresses the applicant's ability to secure community resources that can be combined with HUD's grant resources in order to achieve program purposes. Applicants are required to create partnerships with organizations that can help achieve their program's goals. PHAs are required by section 12(d)(7) of the U.S. Housing Act of 1937 (entitled “Cooperation Agreements for Economic Self-Sufficiency Activities”) to make best efforts to enter into such agreements with relevant state or local agencies. In rating this factor, HUD will look at the extent to which applicants partner, coordinate, and leverage their services and resources with other organizations serving the same or similar populations.

(2) Additionally, applicants must have at least a 25 percent cash or in-kind match. The match is a threshold requirement. Joint applicants must have at least a 25 percent combined match. Applicants who do not demonstrate the minimum 25 percent match will fail the threshold requirement and will not receive further consideration for funding. Leveraging in excess of the 25 percent of the requested grant amount will receive a higher point value. In evaluating this factor, HUD will consider the extent to which applicants have partnered with other entities to secure additional resources. The additional resources and services must be firmly committed; must support the proposed grant activities; and must, in combined amount (including in-kind contributions of personnel, space and/or equipment, and monetary contributions) equal at least 25 percent of the grant amount requested in the application. Match proposed to be used for ineligible activities will not be accepted or counted. “Firmly committed” means that the amount of resources and their dedication to Public Housing NN-funded activities must be explicit, in writing, and signed by a person authorized to make the commitment. Proposed “in-kind” matches should be explained explicitly, including the total value for the grant term. Please see the section on Threshold Requirements for more information.

(3) Points for this factor will be awarded based on the documented evidence of partnerships and commitments of match, as follows:

Percentage of match | Points awarded
25 | 4 points (with partnerships); 2 points (without partnerships).
26 to 50 | 6 points (with partnerships); 4 points (without partnerships).
51 to 75 | 8 points (with partnerships); 6 points (without partnerships).
76 or above | 10 points (with partnerships); 8 points (without partnerships).

e. Rating Factor 5: Achieving Results and Program Evaluation (Up to 15 Points)

(1) An important element of any supportive service program is the development and reporting of performance measures and outcomes. This factor emphasizes HUD's determination to ensure that applicants meet commitments made in their applications and grant agreements. Applicants are also required to assess their performance so that they can measure performance goals. Applicants must demonstrate how they propose to measure their success and outcomes relating to the Department's Strategic Plan.

(2) HUD requires Public Housing NN applicants to develop an effective, quantifiable, outcome-oriented plan for measuring performance and determining that goals have been met. Applicants must use the Logic Model form (HUD-96010) for this purpose. The activities and outcomes projected in the Logic Model must be consistent with the narrative statements provided in response to the rating factors. In addition, applicants must use the narrative response to this rating factor to describe how they will evaluate their program effectiveness throughout the life of the grant and collect, verify, and report the data requested in the Logic Model. Applicants must also discuss how they will modify their delivery mechanisms if goals are not being met.

(3) Applicants must establish interim benchmarks, or outputs, for their proposed program that lead to the ultimate achievement of outcomes. “Outputs” are the direct products of a program's activities. Outputs should produce outcomes for your program; e.g., the delivery of training and/or educational programs to improve the ability of participants to obtain or retain employment, get a high school diploma or GED, get on-the-job training by establishing partnerships with local employers, etc. “Outcomes” are benefits accruing to the residents, families, and/or communities during or after participation in the Public Housing NN program. Applicants must clearly identify the outcomes to be achieved and measured. Examples of outcomes are: increasing academic achievement, increasing residents' financial stability by residents obtaining or retaining employment, and increasing a participant's job readiness by increasing literacy or GED certifications, etc. Outcomes are not the actual development or delivery of services or program activities, but the results of the services delivered or program activities—the ultimate results of the program.

(4) This rating factor requires that applicants identify program outputs, outcomes, and performance indicators that will allow applicants to measure their performance. Performance indicators should be objectively quantifiable and measure actual achievements against anticipated achievements. Applicants' narratives, business plans, and Logic Models should identify what applicants are going to measure, how they are going to measure it, and the steps they have in place to make adjustments if performance targets begin to fall short of established benchmarks and time frames. Applicants' proposals must also show how they will measure the performance of partners and affiliates. Applicants must include the standards, data sources, and methods they will use to measure performance. Applicants will be evaluated based on how comprehensively they propose to measure their program's outcomes.

Applicants will receive up to 15 points if they provide a business plan, narrative, and Logic Model that: (a) Describe the goals, objectives, outcomes, and performance measurements to be achieved over the term of the program; (b) include goals for each year of the program and the total goals to be achieved through the 3-year period of performance; (c) indicate what will be measured; (d) describe how progress will be measured; and (e) show steps to be taken if performance targets are not met within the established time frames. Applicants will receive up to 13 points if they fully address four of the five review criteria (a) to (e) above). Applicants will receive up to 10 points if they fully address three of the five review criteria. Applicants will receive up to 7 points if they fully address two of the five review criteria. Applicants will receive up to 3 points if they fully address one of the five review criteria. Applicants will receive 0 points if they do not provide the Logic Model and do not provide enough information to determine the program goals, outcomes, and/or performance measurements. Points will also be deducted if there are inconsistencies between statements in the narrative and the contents of the submitted Logic Model.

B. Review and Selection Process

1. Review Process. Four types of reviews will be conducted: a screening to determine if the applicant is eligible to apply for funding under the Public Housing NN category; a review of whether the application submission is complete, on time, and meets HUD's threshold; a review by the field office to evaluate past performance; and a technical review to rate the application based on the five rating factors provided in this NOFA.

2. Selection Process. HUD will make awards in rank order based on the score of each eligible application.

3. Tie Scores. In the event of a tie score between two applications, HUD will select the application that was first received electronically by Grants.gov, and that determination will be made based on the earliest date and time stamp. In the case of paper applications, HUD will select the application postmarked the earliest.

4. Deficiency Period. Applicants will have 14 calendar days in which to provide missing information requested from HUD. For other information on correcting deficient applications, please see the General Section.

VI. Award Administration Information

A. Award Notices

1. HUD will make announcements of grant awards after the rating and ranking process is completed. Grantees will be notified by letter. The letter will contain instructions and the steps grantees must take to access funding and begin implementation of grant activities. Applicants who are not funded will also receive letters via U.S. postal mail.

2. Debriefings. Applicants who are not funded may request a debriefing. Applicants requesting to be debriefed must send a written request to: Iredia Hutchinson, Director, Grants Management Center, 501 School Street, SW., Suite 800, Washington, DC 20024. Please refer to the General Section for additional information on debriefings.

B. Administrative and National Policy Requirements

1. Applicable Requirements. Grantees are subject to regulations and other requirements found in:

a. 24 CFR 85, “Administrative Requirements for Grants and Cooperative Agreements to State, Local, and Federally Recognized Indian Tribal Governments;”

b. 24 CFR Part 905, “The Public Housing Capital Fund Program;”

c. 24 CFR Part 968, “Public Housing Modernization;”

d. OMB Circular A-87, “Cost Principles for State, Local, and Indian Tribal Governments;” and

e. OMB Circular A-133, “Audits of States, Local Governments, and Non-Profit Organizations.”

2. Economic Opportunities for Low- and Very Low-Income Persons (Section 3).

Applicants and grantees must also comply with Section 3 of the Housing and Urban Development Act of 1968 (12 U.S.C. 1701u) and ensure that training, employment, and other economic opportunities shall, to the greatest extent feasible, be directed toward low- and very low-income persons, particularly those who are recipients of government assistance for housing and to business concerns that provide economic opportunities to low- and very low-income persons.

3. Executive Order 13202, Preservation of Open Competition and Government Neutrality Towards Government Contractors' Labor Relations on Federal and Federally Funded Construction Projects. For further information, see the General Section.

4. Fair Housing and Civil Rights Laws. Applicants and their subrecipients must comply with all Fair Housing and Civil Rights laws, statutes, regulations, and Executive Orders as enumerated in 24 CFR 5.105(a), as applicable. Please see the General Section for more information.

5. Environmental Impact. Some activities under this Public Housing NN NOFA will be excluded and not subject to environmental review under 24 CFR 58.34(a)(3); or (a)(8) or (a)(9); 58.35(b)(2) or (b)(3); 50.19(b)(3), (b)(8), (b)(9), (b)(12), or (b)(13). Some will be subject to environmental review. Any applicant proposing any long-term leasing or physical development activities, and its partners, are prohibited from constructing, rehabilitating, converting, leasing, repairing or constructing property, or committing or expending HUD or non-HUD funds for these types of program activities, until the following has occurred: HUD has approved the grantee's Request for Release of Funds (form HUD-7015.15) following a Responsible Entity's completion of an environmental review under 24 CFR part 58, where required: or, if HUD has determined in accordance with 24 CFR 58.11 to perform the environmental review itself under 24 CFR part 50, HUD has completed the environmental review.

6. Wage Rates. Laborers and mechanics employed in the development and operation of Public Housing NN facilities must be paid Davis-Bacon or HUD-determined prevailing wage rates, respectively, unless they meet the qualifications of a volunteer (See Section III.C.1.a of this NOFA).

7. Provision of Services to Individuals with Limited English Proficiency (LEP). Successful applicants and grantees must seek to provide access to program benefits and information to LEP individuals through translation and interpretive services, in accordance with HUD's LEP Recipient Guidance (68 FR 70968).

8. Communications. Successful applicants should ensure that notices of and communications during all training sessions and meetings be effective for persons who have hearing and/or visual disabilities, consistent with Section 504 (See 24 CFR 8.6).

9. Procurement of Recovered Materials. State agencies or a political subdivision of a state that are using assistance under a HUD program NOFA must comply with the requirements of Section 6002 of the Solid Waste Disposal Act, as amended by the Resource Conservation and Recovery Act. In addition, any person contracting with such an agency with respect to work performed under an assisted contract must comply with the requirements of Section 6002 of the Solid Waste Disposal Act, as amended by the Resource Conservation and Recovery Act. Please see the General Section for more information.

10. Eminent Domain. The revised Continuing Appropriations Resolution, 2007 (Pub. L. 110-5, approved February 15, 2007, made HUD FY 2007-appropriated funds subject to the same limitations as FY 2006 appropriations. No funds made available under the 2006 Act may be used to support any federal, state, or local projects that seek to use the power of eminent domain, unless eminent domain is employed only for a public use. See the Supplemental Information and Technical Correction to the SuperNOFA, published May 11, 2007 (72 FR 27033 and 27036).

C. Reporting

1. Semi-Annual Performance Reports. Grantees must submit semi-annual performance reports to the local HUD field office. These progress reports shall include financial reports (SF-269A) and the Logic Model (HUD-96010) showing achievements to date against outputs and outcomes proposed in the application and approved by HUD. Each semi-annual report must identify any deviations (positive or negative) from outputs and outcomes proposed and approved by HUD, by providing the information in the reporting tab of the approved Logic Model. Applicants must include a narrative describing milestones, work plan progress, and problems encountered and methods used to address these problems to support the data in the Logic Model. Grantees shall use quantifiable data to measure performance against goals and objectives outlined in their business plan. Applicants that receive awards from HUD should be prepared to report on additional measures that HUD may designate at time of award, which will be incorporated into the approved Logic Model made a part of the award agreement. Performance reports are due to the field office on July 30 and January 31 of each year. If reports are not received by the due date, grant funds will not be advanced until reports are received. For FY 2007, HUD is considering a new concept for the Logic Model, a Return on Investment (ROI) statement. HUD will be publishing a separate notice on the ROI concept.

2. Final Report. All grantees must submit a final report to their local field office that will include a financial report (SF-269A), a final Logic Model, and a narrative evaluating overall results achieved against their approved projections and business plan. Grantees must use quantifiable data to measure performance against goals and objectives outlined in their Logic Model and business plan. The final report must also include responses to the management questions found in the Logic Model and approved for your program. The financial report must contain a summary of all expenditures made from the beginning of the grant agreement to the end of the grant agreement and must include any unexpended balances. The final narrative, Logic Model, and financial report are due to the field office 90 days after the termination of the grant agreement.

3. Program Evaluations. A portion of grant funds may be reserved to ensure that evaluations can be completed for all participants who received training through this program. These evaluations can assist grantees in preparing their required semi-annual and final reports. Grant funds may be used for the purchase of software that can assist grantees with the evaluation of participant performance.

4. Final Audit. Grantees that expend $500,000 in federal funds in a given program or fiscal year are required to obtain a complete final closeout audit of the grant's financial statements by a certified public accountant (CPA), in accordance with generally accepted government audit standards. A written report of the audit must be forwarded to HUD within 60 days of issuance. Grant recipients must comply with the requirements of 24 CFR 85, as stated in OMB Circulars A-87 and A-133.

5. Racial and Ethnic Data. HUD requires that funded recipients collect racial and ethnic beneficiary data. HUD has adopted OMB's Standards for the Collection of Racial and Ethnic Data. In view of these requirements, applicants should use form HUD-27061, the Racial and Ethnic Data Reporting Form.

VII. Agency Contact(s)

For questions and technical assistance, applicants may call the Public and Indian Housing Information and Resource Center at (800) 955-2232. For the hearing or speech impaired, please call the Federal Relay Service at (800) 877-8339.

VIII. Other Information

A. Code of Conduct. See the General Section for more information.

B. Transfer of Funds. HUD does not have the discretion to transfer funds for the Public Housing Neighborhood Networks category to or from any other grant program.

C. Paperwork Reduction Act. The information collection requirements contained in this document have been approved by OMB under the Paperwork Reduction Act of 1995 (44 U.S.C. 3501-3520) and assigned OMB control number 2577-0229. In accordance with the Paperwork Reduction Act, HUD may not conduct or sponsor, and a person is not required to respond to, a collection of information, unless the collection displays a currently valid OMB control number. Public reporting burden for the collection of information is estimated to average 54.25 hours per respondent for the application. This includes the time for collecting, reviewing, and reporting the data for the application. The information will be used for grantee selection and monitoring the administration of funds. Response to this request for information is required in order to receive the benefits to be derived.

Dated: December 4, 2007.
Orlando J. Cabrera,
Assistant Secretary for Public and Indian Housing.

[FR Doc. E7-23997 Filed 12-10-07; 8:45 am]

BILLING CODE 4210-67-P